DEPARTMENT OF HOMELAND SECURITY

Transportation Security Administration

49 CFR Parts 1515, 1520, 1522, 1540, 1544, 1546, 1548, and 1549

[Docket No. TSA-2009-0018; Amendment Nos. 1515-2, 1520-9, 1522-1, 1540-11, 1544-10, 1546-6, 1548-6, 1549-1]

RIN 1652-AA64

Air Cargo Screening; Correction

AGENCY: Transportation Security Administration, DHS.

ACTION: Final rule; request for comments; correction.

SUMMARY: The Transportation Security Administration (TSA) is correcting the Air Cargo Screening final rule published in the Federal Register on August 18, 2011. The final rule amended two provisions of the Air Cargo Screening interim final rule (IFR) issued on September 16, 2009, proposed a new fee range for security threat assessments, and responded to public comments on the IFR.

DATES: Effective September 19, 2011.

FOR FURTHER INFORMATION CONTACT: Alice Crowe, Senior Counsel, Office of Chief Counsel, TSA-22, Transportation Security Administration, 601 South 12th Street, Arlington, VA 20598-6028; telephone (571) 227 -2652; facsimile (571) 227-1379; e-mail alice.crowe@dhs.gov.

SUPPLEMENTARY INFORMATION:

Background

On August 18, 2011, TSA published the Air Cargo Screening final rule in a separate Part III of the Federal Register (76 FR 51848). The rule amended two provisions of the Air Cargo Screening IFR issued on September 16, 2009 (74 FR 47672), proposed a new fee range for security threat assessments, and responded to public comments on the IFR. The final rule contained the language “on airport” in §§ 1544.205(g)(3) and 1546.205(g)(3), Acceptance and Screening of cargo. This language may be interpreted to not allow an aircraft operator or a foreign air carrier to screen cargo off airport, thus requiring them to become a Certified Cargo Screening Facility (CCSF) to screen cargo off airport for transport on passenger aircraft. This document corrects the final regulations by removing the language “on airport,” clarifying that an aircraft operator or foreign air carrier does not have to become a CCSF to screen cargo off airport for transport on a passenger aircraft. The final rule also contained an incorrect citation in the last paragraph of the preamble section “II. Summary of the Final Rule” that read “156.105(c)” and should have read “1546.105(c)”. This document corrects the incorrect citation in the preamble.

Correction

In the FR Doc. 20011-20840, published on August 18, 2011 (76 FR 51848), make the following corrections:

1. On page 51850, in the first column, third line from the bottom, in the last paragraph preamble discussion of “II. Summary of the Final Rule,” remove the citation “156.105(c)” and add in its place, the citation “1546.105(c)”.

2. On page 51867, in the third column, paragraph (g)(3) under § 1544.205 Acceptance and screening of cargo, is corrected to read as follows:

§ 1544.205 Acceptance and screening of cargo.

* * * * *

(g) * * *

(3) Limitation on who may conduct screening. Screening must be conducted by the aircraft operator, by another aircraft operator or foreign air carrier operating under a security program under this chapter with a comparable cargo security program, by a certified cargo screening facility in accordance with 49 CFR part 1549, or by TSA.

* * * * *

3. On page 51868, in the first column, paragraph (g)(3) under § 1546.205 Acceptance and screening of cargo, is corrected to read as follows:

§ 1546.205 Acceptance and screening of cargo.

* * * * *

(g) * * *

(3) Limitation on who may conduct screening. Screening must be conducted by the foreign air carrier, by another aircraft operator or foreign air carrier operating under a security program under this chapter with a comparable cargo security program, by a certified cargo screening facility in accordance with 49 CFR part 1549, or by TSA.

* * * * *

Issued in Arlington, Virginia, on August 19, 2011.
Mardi Ruth Thompson,
Deputy Chief Counsel for Regulations.

[FR Doc. 2011-21702 Filed 8-24-11; 8:45 am]

BILLING CODE 9110-05-P